DEPARTMENT OF DEFENSE

Department of the Army

Reissuance of MFTRP No. 1A as MFTRP No. 1B, Including PowerTrack Requirements

AGENCY: Military Traffic Management Command, DoD.

ACTION: Notice.

SUMMARY: The Military Traffic Management Command (MTMC), as the Department of Defense (DoD) Traffic Manager for surface and surface intermodal traffic management services, hereby cancels MTMC Freight Traffic Rules Publication (MFTRP) No. 1A in its entirety and replaces it with MFTRP No. 1B, effective September 30, 2000. The actual text of the 1B will be available on the Internet at MTMC's website at www.mtmc.army.mil by clicking in succession on: (1) Transportation Services, (2) Freight Logistics, (3) Freight Traffic Rules Publications and then clicking on the appropriate box indicating the 1B. In conjunction with the replacement of the 1A with the 1B, use of the PowerTrack automated billing and payment system will become mandatory on September 30, 2000 for all DoD freight shipped in accordance with the 1B motor rules publication. Specifically, motor carriers wishing to transport DoD freight effective September 30, 2000 must have a signed agreement with US Bank and be PowerTrack certified to be eligible to pick up shipments on or after that date. The 1B is being issued by MTMC Headquarters in Alexandria, Virginia; however, responsibility for the publication after its original issuance will pass from MTMC Headquarters to MTMC's Deployment Support Command at Fort Eustis, Virginia.

DATES: MFTRP No. 1A is cancelled and MFTRP No. 1B is effective September 30, 2000.

ADDRESSES:

(Until September 30, 2000)

Headquarters, Military Traffic Management Command, ATTN: MTOP-MRM, Room 10N-07, Hoffman II Building, 200 Stovall Street, Alexandria, VA 22332-5000, attn: Jerome Colton, e-mail: coltonj@mtmc.army.mil

(After September 30, 2000)

MTMC Deployment Support Command, attn: Steve Lord, Room 201, Bldg. 664 Sheppard Place, Fort Eustis, VA 23604, e-mail: lords@mtmc.army.mil

FOR FURTHER INFORMATION CONTACT: For additional information contact Mr. Jerome Colton at 703-428-2324.

SUPPLEMENTARY INFORMATION: This change is effective on September 30, 2000. A notice proposing this change was published in the Federal Register, Vol. 64, No. 245, page 71742, Wednesday, December 22, 1999. In response to this notice, a total of three (3) letters (two from carriers and one from a carrier association) were received during the 60-day comment period. The synopsis of the comments and MTMC's responses appear below. Comments pertaining to material which did not change from the 1A from the 1B will be referenced but not synopsized, and will be followed by the standard response “There has been no substantive change from the 1A to the 1B”. The comments and responses are as follows:

Comment: Electronic Commerce/Electronic Data Interchange and PowerTrack (Items 16 and 20). Will there be ample time to implement these programs prior to their becoming mandatory? When will these programs be mandatory? Some aspects of these programs impose an unfair burden on carriers.

Response:

(a) PowerTrack and other automation programs are required by the Secretary of Defense under Management Reform Memorandum Number 15.

(b) Motor carriers wishing to transport DoD motor freight must have a signed agreement and be PowerTrack certified by September 30, 2000.

(c) These initiatives were publicized at various times in the past year including announcements at workshops and symposia and carriers have had ample time to prepare. Item 20 of the 1B draft text, referenced in the Federal Register announcement of and posted on MTMC's website since December 22, 1999 stated: “Implementation of PowerTrack began in 1999, and is expected to become mandatory in September 2000 * * *, at which time it will become the exclusive mechanism for payment of freight bills by DoD. Carriers are therefore strongly encouraged to become PowerTrack-certified as soon as possible.” Qualified motor carriers still not PowerTrack capable who wish to continue carrying DoD freight after September 30, 2000 are urged to contact US Bank immediately at 1010 South Seventh Street, Minneapolis, MN 55415, Tel: 612-973-6597. Additional information on PowerTrack is available at www.usbank.com/powertrack.

(d) Over three hundred MTMC-qualified motor carriers already have a signed PowerTrack agreement with US Bank.

(e) Although MTMC is not privy to the individual PowerTrack agreement between US Bank and each carrier, it is our understanding that the fees charged are well within industry norms and lower than those charged by factoring companies. This is in part due to the elimination of paper from the billing process and the benefits of automation, which has also resulted in carriers being paid in a fraction of the time it has taken in a non-automated environment. Overall response to PowerTrack has been overwhelmingly positive.

Comment: After-the-fact negotiations (Items 18 and 21).

Response: There has been no substantive change from the 1A and 1B.

Comment: GBL Correction Notices (Item 19). The thirty-day time limit for carriers to request a Correction Notice is restrictive, unfair, and unrealistic, and not in the spirit of related statutes which provide for a 180-day time limit.

Response: In accordance with the implementation of PowerTrack which will eliminate GBLs, the new PowerTrack procedures will come into effect vice GBL Correction Notices.

Comment: Alternation—Item 60. (1) Transportation Officers (TOs) should be permitted to authorize a non-alternating point-to-point tender in special cases or by specifying same on the GBL; (2) Sixteen point-to-point exceptions in PowerTrack territorial tenders will not be sufficient; (3) Alternation to the lowest rate will result in service degradation, as certain shipping lanes have special requirements.

Response: (1) Both the automated environment and necessary administrative procedures make it unfeasible to allow TOs to authorize non-alternating point-to-point tenders. (2) The 1B has increased point-to-point exceptions from six to sixteen. Sixteen exceptions is more than sufficient for virtually all situations, as confirmed by both experience and multiple informal conversations and meetings with carriers. If ever a rare case arises where this is insufficient, that one tender can be restructured or divided using various options, such as reducing the size of the territory covered. (3) Shipping lanes with special requirements should be listed as one of the exceptions to the territorial rate.

Comment: Customs or In Bond Freight (Item 80). Why is this deleted?

Response: This Item is deleted because it is virtually never used. Customs fees are rarely, if ever, applied to DoD shipments. DoD does not ship items on a COD basis.

Comment: Detention (Item 85).

Response: There has been no substantive change from the 1A to the 1B.

Comment: Expedited Service (Item 110).

Response: There has been no substantive change from the 1A to 1B. Please note that the redundant phrase “in addition to all other transportation charges” which appeared throughout the 1A in describing various accessorial services has been deleted in favor of a single sentence to be inserted in Item 13 stating that accessorial charges shall be paid in addition to line haul rates.

Comment: Handling of Freight at Positions Not Immediately Adjacent to Vehicle (Item 125). Why is this rule eliminated? There is no justification for converting this service, for which a price can legitimately be set, to an after-the-fact negotiation.

Response: Item 125 has been restored.

Comment: Routing—Items 200, 300, 400. (1) Some shipments and/or routes require mileages in excess of the applicable DTOD module. (2) Implementation of the 1B should be held up while a study of DTOD's accuracy is conducted. (3) A MTMC letter authorizing payment on these extra miles should be (but has not been) incorporated into the 1B.

Response: This issue will be largely eliminated as the majority of such cases arise for Overdimensional/Overweight (ODOW) Shipments, which will become moot under the 1B, which requires that ODOW shipments be handled under Spot Bid (under which mileage calculations do not exist) except in special circumstances (see Item 400). However, for those few remaining cases where such issues will continue to arise:

(1) It is a well-established principle that a discrepancy between actual mileage and the mileage listed by a Governing Mileage Guide (GMG) is resolved in favor of the GMG. Any discrepancy or anomaly in a particular lane should be reported to the GMG manager for correction.

(2) DTOD is currently in effect under the 1A, so DTOD as such is not a 1A to 1B issue.

(3) The new rule reflects both commercial transportation practice and the realities of an automated environment such as PowerTrack whereby the GMG is the sole mileage authority. The relevant rule in the 1A (which was so confusing and impractical that the cited letter has to be written to interpret it) was changed because it: (a) Is not feasible in a non-paper environment, (b) does not correspond to commercial practice of using a GMG as the sole arbiter of mileage, and (c) resulted in an unrealistic administrative burden calculating and reconciling mileages in each and every state through which a shipment passed, and typically involved adding mileages from one state line to the next.

Comment: Towaway Service (Item 228) This new Item does not fairly divide liability issues between shipper and carrier; instead all liabilities are imposed on the carrier.

Response: We have adopted the language “or other failure to properly maintain * * *”. We have considered the additional request that DoD assume liability, including attorney fees, for third-party claims resulting from Towaway Service. We cannot assume this liability and do not believe that it would be equitable to do so. Each claim, if any, would have to be decided on a case-by-case basis.

Comment: Weight Verification (Item 250).

Response: There has been no substantive change from the 1A to the 1B.

Comment: Dromedary Services (old Items 325 and 327). Why are these Items eliminated? While much of the information has been incorporated elsewhere (e.g. Item 105), some essential information appears nowhere in the 1B. 5000 and 10000 pound minimum charges for regular and 410 dromedary shipments, respectively, have been eliminated for Dual Driver and Protective Security accessorials, and for White Phosphorus and similar commodities.

Response: These provisions have not been eliminated for the two accessorials cited; the 1B includes them in Item 35, para 1n, Item 40, para 2b, and Item 105, para c. The provisions for white phosphorus and similar commodities have been restored, and now appear in Item 328, paragraph 2.

Regulatory Flexibility Act: This change is not considered rule making within the meaning of the Regulatory Flexibility Act, 5 U.S.C. 601-612.

Paperwork Reduction Act: The Paperwork Reduction Act, 44 U.S.C. 3051 et seq., does not apply because no information collection requirement or recordskeeping responsibilities are imposed on offerors, contractors, or members of the public.

Thomas Hicks,
Deputy Chief of Staff for Operations.

[FR Doc. 00-14677 Filed 6-8-00; 8:45 am]

BILLING CODE 3710-08-U